FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Acceleron Trade Services, Ltd. Co. (OFF), 500 Spring Hill Drive, #140, Spring, TX 77386, Officers: Wayne A. Krennerich, VP-Compliance/Operations, (Qualifying Individual), Kevin Alexander, President, Application Type: New OFF License.

AIT Ocean Systems, Inc. (OFF), 701 N. Rohlwing Road, Itasca, IL 60143, Officers: Jerome J. Walick, Vice President, (Qualifying Individual), Steven L. Leturno, Director, Application Type: QI Change.

Combined Freight System, Inc. (NVO), 2508 Royale Place, Fullerton, CA 92833, Officers: Yang S. Kwon, Secretary/Treasurer/CFO, (Qualifying Individual), Alex O. Kwon, President, Application Type: New NVO License.

CTC International Inc. (OFF), 293 Brea Canyon Road, Walnut, CA 91789, Officer: Lei Wang, Secretary/CFO/CEO, (Qualifying Individual), Application Type: Name Change/QI Change/Add NVO Service.

General Noli USA, Inc. dba General Freight (NVO & OFF), 148-08 Guy R. Brewer Blvd., Jamaica, NY 11434, Officers: Wei Hu, Vice President, (Qualifying Individual), Gianluca Pirrotta, President, Application Type: QI Change.

GC Logistics, Inc. (NVO), 79301 Country Club Drive, #104, Bermuda Dunes, CA 92203, Officer: Geoffrey Carlin, President/Treasurer/Secretary, (Qualifying Individual), Application Type: New NVO License.

Gulf South Forest Products, Inc. (NVO), 3038 N. Federal Highway, Building L, Ft. Lauderdale, FL 33306, Officers: Sam Yohanan, CEO, (Qualifying Individual), Edouard Baussan, Shareholder, Application Type: New NVO License.

KCTC International (America), Inc. dba World Bridge Line dba Green Shipping, Inc. (NVO), 16012 S. Western Avenue, #302, Gardena, CA 90247, Officer: Byung H. Chung, CEO/President/CFO/Secretary, (Qualifying Individual), Application Type: Trade Name Change.

Novomarine Container Line LLC (NVO & OFF), 1647 Capesterre Drive, Orlando, FL 32824, Officers: Daniil B. Ruvinskiy, Manager, (Qualifying Individual), Aleksey Y. Demshin, Manager/Member, Application Type: New NVO & OFF License.

Overseas Moving Specialists, Inc. dba International Sea & Air (NVO), 115 Meacham Avenue, Elmont, NY 11003, Officers: Alon Aviani, Vice President, (Qualifying Individual), Brandon Reed, President, Application Type: New NVO License.

Pegasus3 Worldwide Logistics, LLC (NVO & OFF), 59 Grove Street, Stoughton, MA 02072, Officers: Soraya G. Bandeli, Member, (Qualifying Individual), Mary T. Steele, Member, Application Type: New NVO & OFF License.

Tri-Best Logistics, Inc. (NVO & OFF), 1484 E. Valencia Drive, Fullerton, CA 92831, Officers: Chris J. Yi, CFO/Secretary, (Qualifying Individual), Justin Lee, President, Application Type: QI Change.

Rite Way Shipping, Inc. dba RW Container Line (NVO), 6521 Arlington Boulevard, #210, Falls Church, VA 22042, Officer: Salima K. Elouadghiri, President/Secretary, (Qualifying Individual), Application Type: New NVO License.

Aeronet, Inc. dba Aeronet Worldwide (NVO & OFF), 42 Corporate Park, #150, Irvine, CA 92606-3103, Officers: Alex S. Pereira, Senior Vice President, (Qualifying Individual), Anthony N. Pereira, Chairman, Application Type: Add OFF Service.

Germovi, Corporation (NVO & OFF), 10253 NW. 51st Terrace, Doral, FL 33178, Officers: German Montano, President/Treasurer, (Qualifying Individual), Ingrid T. Naranjo, Vice President/Secretary, Application Type: New NVO & OFF License.

AB Group Shipping, Corp (OFF), 6848 NW. 77th Court, Miami, FL 33166, Officers: Marcela A. Alonso, President, (Qualifying Individual), Rodrigo G. Prado, Vice President, Application Type: New OFF License.

KG & Don's Express Shipping Import Inc. (NVO & OFF), 491 East 165th Street, Bronx, NY 10456, Officers: Sampson S. Nyarko, President/CEO, (Qualifying Individual), Osei Nyarko, Treasurer, Application Type: New NVO & OFF License.

Hansa Meyer Global Transport USA, LLC (OFF), 712 Main Street, Suite 1820, Houston, TX 77002, Officers: Fritz Keller, Vice President/Marketing, (Qualifying Individual), Frank Scheibner, CEO/President/Secretary/Treasurer, Application Type: New OFF License.

Dated: February 18, 2011.
Rachel E. Dickon,
Assistant Secretary.

[FR Doc. 2011-4205 Filed 2-24-11; 8:45 am]

BILLING CODE 6730-01-P